DEPARTMENT OF ENERGY

Federal Energy Regulatory Commission

Combined Notice of Filings #2

Take notice that the Commission received the following electric rate filings:

Docket Numbers: ER17-1794-002.

Applicants: Innovative Solar 42, LLC.

Description: Tariff Amendment: Revision to Market Base Rate Tariff to be effective 6/10/2017.

Filed Date: 7/26/17.

Accession Number: 20170726-5049.

Comments Due: 5 p.m. ET 8/16/17.

Docket Numbers: ER17-2146-000.

Applicants: NorthWestern Corporation.

Description: § 205(d) Rate Filing: SA 780 4th Rev—NITSA with Project Spokane, LLC to be effective 7/27/2017.

Filed Date: 7/26/17.

Accession Number: 20170726-5054.

Comments Due: 5 p.m. ET 8/16/17.

Docket Numbers: ER17-2147-000.

Applicants: San Diego Gas & Electric Company.

Description: Initial rate filing: Palo Verde North Gila Line ANPP High Voltage Switchyard Interconnection Agreemen to be effective 7/26/2017.

Filed Date: 7/26/17.

Accession Number: 20170726-5076.

Comments Due: 5 p.m. ET 8/16/17.

Docket Numbers: ER17-2148-000.

Applicants: Midcontinent Independent System Operator, Inc.

Description: § 205(d) Rate Filing: 2017-07-26_Prairie Power Attachment O Clean-Up Filing to be effective 9/25/2017.

Filed Date: 7/26/17.

Accession Number: 20170726-5077.

Comments Due: 5 p.m. ET 8/16/17.

Docket Numbers: ER17-2149-000.

Applicants: Northern States Power Company, a Minnesota corporation.

Description: Notice of Cancellation of the Alternative Transmission Service Agreement (Rate Schedule No. 521) of Northern States Power Company, a Minnesota corporation.

Filed Date: 7/26/17.

Accession Number: 20170726-5078.

Comments Due: 5 p.m. ET 8/16/17.

Docket Numbers: ER17-2150-000.

Applicants: PJM Interconnection, L.L.C.

Description: § 205(d) Rate Filing: Cost Responsibility Agreement SA No. 4733, Queue Position #NQ147 to be effective 7/19/2017.

Filed Date: 7/26/17.

Accession Number: 20170726-5080.

Comments Due: 5 p.m. ET 8/16/17.

Take notice that the Commission received the following electric securities filings:

Docket Numbers: ES17-42-000.

Applicants: AEP Generating Company, Appalachian Power Company, Indiana Michigan Power Company, Kentucky Power Company, Kingsport Power Company, Public Service Company of Oklahoma, Southwestern Electric Power Company, Wheeling Power Company.

Description: Application Under Section 204 of the Federal Power Act for Authorization to Issue Securities of AEP Generating Company et al.

Filed Date: 7/26/17.

Accession Number: 20170726-5081.

Comments Due: 5 p.m. ET 8/16/17.

Docket Numbers: ES17-43-000.

Applicants: Southwestern Electric Power Company.

Description: Application Under Section 204 of the Federal Power Act for Authorization to Issue Securities of Southwestern Electric Power Company.

Filed Date: 7/26/17.

Accession Number: 20170726-5082.

Comments Due: 5 p.m. ET 8/16/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 26, 2017.
Nathaniel J. Davis, Sr.,
Deputy Secretary.

[FR Doc. 2017-16221 Filed 8-1-17; 8:45 am]

BILLING CODE 6717-01-P